DEPARTMENT OF AGRICULTURE

Agricultural Marketing Service

7 CFR Part 1290

[Document No. AMS-TM-16-0004]

RIN 0581-AC59

Specialty Crop Block Grant Program Regulation; Removal of a Final Rule

AGENCY: Agricultural Marketing Service.

ACTION: Final rule; removal.

SUMMARY: The Agricultural Marketing Service (AMS) is rescinding and removing from the Code of Federal Regulations 7 CFR part 1290 entitled “Specialty Crop Block Grant Program” (SCBGP) in its entirety. This regulation implemented the SCBGP for the fiscal years 2006 to 2008 and is now obsolete.

DATES: Effective April 19, 2016.

FOR FURTHER INFORMATION CONTACT: Trista Etzig, Grants Division Director; Telephone: (202) 720-8356; email: Trista.Etzig@ams.usda.gov.

SUPPLEMENTARY INFORMATION: SCBGP is authorized under the Specialty Crop Competitiveness Act of 2004 (7 U.S.C. 1621 note).

AMS published 7 CFR part 1290, as a Final rule, in the Federal Register on September 11, 2006 (71 FR 53307), to establish regulations for SCBGP. SCBGP is a noncompetitive grant program that makes funds available to eligible entities for projects to solely enhance the competitiveness of specialty crops. The rule established SCBGP eligibility and application requirements, review and approval processes, and grant administration procedures for SCBGP for the fiscal years 2006 to 2008.

The grant agreements that 7 CFR part 1290 affected have expired and the regulations are now obsolete. Therefore, the AMS is rescinding and removing the regulation implementing the SCBGP from 2006 to 2008 in its entirety.

List of Subjects in 7 CFR Part 1290

Agriculture, Reporting and recordkeeping requirements, Specialty crop block grants.

PART 1290—[REMOVED AND RESERVED]

For the reasons set forth in the preamble, under the authority of 7 U.S.C. 1621 note, 7 CFR part 1290 is removed.

Dated: April 12, 2016.
Elanor Starmer,
Administrator, Agricultural Marketing Service.

[FR Doc. 2016-08832 Filed 4-15-16; 8:45 am]

BILLING CODE 3410-02-P